DEPARTMENT OF COMMERCE

International Trade Administration

[A-570-851]

Preliminary Results of First New Shipper Review and First Antidumping Duty Administrative Review: Certain Preserved Mushrooms From the People's Republic of China

AGENCY: Import Administration, International Trade Administration, Department of Commerce.

SUMMARY: In response to a timely request from two manufacturer/exporters and the petitioners,¹ on March 30, 2000, the Department of Commerce published a notice of initiation of an administrative review of the antidumping duty order on certain preserved mushrooms from the People's Republic of China with respect to China Processed Food Import & Export Co., Gerber Food (Yunnan) Co., Ltd., Mei Wei Food Industry Co., Ltd., and Tak Fat Trading Co. The periods of review are August 5, 1998, through January 31, 2000, for China Processed Food Import & Export Co. and Gerber Food (Yunnan) Co., Ltd., and May 7, 1998, through January 31, 2000, for Mei Wei Food Industry Co., Ltd. and Tak Fat Trading Co.² See Initiation of Antidumping and Countervailing Duty Administrative Reviews, 65 FR 16875 (March 30, 2000).

¹ The petitioners are the Coalition for Fair Preserved Mushroom Trade which includes the American Mushroom Institute and the following domestic companies: L.K. Bowman, Inc., Nottingham, PA; Modern Mushroom Farms, Inc., Toughkenamon, PA; Monterey Mushrooms, Inc., Watsonville, CA; Mount Laurel Canning Corp., Temple, PA; Mushrooms Canning Company, Kennett Square, PA; Southwood Farms, Hockessin, DE; Sunny Dell Foods, Inc., Oxford, PA; United Canning Corp., North Lima, OH.

² Because of an affirmative critical circumstance finding, liquidation was suspended 90 days prior to publication of the preliminary less-than-fair-value investigation for these companies.

As a result of these reviews, the Department of Commerce has preliminarily determined that dumping margins exist for exports of the subject merchandise for the covered periods.

On March 31, 2000, the Department of Commerce published a notice of initiation of a new shipper antidumping duty review of Raoping Xingyu Foods Co., Ltd. covering the period August 5, 1998, through January 31, 2000. On June 30, and August 17, 2000, the Department of Commerce published the preliminary and final results, respectively, for exports by Mei Wei Food Industry Co., Ltd. and Tak Fat Trading Co. on an expedited basis. Therefore, this notice constitutes a preliminary results of administrative review for China Processed Food Import & Export Co. and Gerber Food (Yunnan) Co., Ltd. and a preliminary results of new shipper review for Raoping Xingyu Foods Co., Ltd.

We invite interested parties to comment on these preliminary results. Parties who submit arguments in this proceeding are requested to submit with their arguments (1) a statement of the issues and (2) a brief summary of the arguments.

EFFECTIVE DATE: November 7, 2000.

FOR FURTHER INFORMATION CONTACT: David J. Goldberger or Kate Johnson, Import Administration, International Trade Administration, U.S. Department of Commerce, 14th Street and Constitution Avenue, N.W., Washington, D.C. 20230; telephone: (202) 482-4136 or (202) 482-4929, respectively.

The Applicable Statute

Unless otherwise indicated, all citations to the Tariff Act of 1930, as amended (“the Act”), are references to the provisions effective January 1, 1995, the effective date of the amendments made to the Act by the Uruguay Round Agreements Act. In addition, unless otherwise indicated, all citations to the Department of Commerce's (the Department's) regulations are to 19 CFR Part 351 (1999).

SUPPLEMENTARY INFORMATION: For the three respondents that submitted full responses to the antidumping questionnaire for these reviews and have been found preliminarily to be entitled to a separate rate, we have preliminarily determined that U.S. sales have been made below normal value. If these preliminary results are adopted in our final results of these reviews, we will instruct the Customs Service to assess antidumping duties on all appropriate entries on an importer-specific or entry-specific basis, as applicable (see “Assessment Rates” section of this notice for further discussion).

Background

On February 19, 1999, the Department published in the Federal Register (64 FR 8308) an antidumping duty order on certain preserved mushrooms from the People's Republic of China (PRC). On February 14, 2000, the Department published in the Federal Register (65 FR 7348) a notice of opportunity to request an administrative review of the antidumping duty order on certain preserved mushrooms from the PRC covering the period August 5, 1998, through January 31, 2000. On February 22, 2000, the Department received a timely request from Raoping Xingyu Foods Co., Ltd. (Raoping), in accordance with section 751(a)(2)(B) of the Act and 19 CFR 351.214(c), for a new shipper review of this antidumping duty order. On February 29, 2000, the petitioners requested, in accordance with 19 CFR 351.213, that we conduct an administrative review of exports of certain preserved mushrooms from the PRC to the United States by China Processed Food Import & Export Co. (CPF), Gerber Food (Yunnan) Co. (Gerber), Mei Wei Food Industry Co., Ltd. (Mei Wei), and Tak Fat Trading Co. (Tak Fat). CPF and Gerber also requested on February 28, 2000, that we conduct administrative reviews of their respective exports. On March 17, 2000, Raoping agreed to waive the time limits in order that the Department, pursuant to 19 C.F.R 351.214(j)(3), may conduct this review concurrently with the first annual administrative review of this order.

On March 29, 2000, the Department issued the antidumping questionnaire to CPF, Gerber, Raoping, Mei Wei, and Tak Fat. On March 30, 2000, the Department published a notice of initiation of an administrative review of the antidumping duty order on certain preserved mushrooms from the PRC (65 FR 16875). On March 31, the Department published a notice of initiation of a new shipper antidumping duty review with respect to Raoping (65 FR 17257). We received responses to the antidumping questionnaire during April and May 2000.

On May 10, 2000, the Department provided the parties an opportunity to submit publicly available information (PAI) for consideration in these preliminary results.

On June 30, 2000, we published separate preliminary results on an expedited basis for Mei Wei and Tak Fat who did not respond to the Department's questionnaire (65 FR 40609). On August 17, 2000, the Department published the final results for exports by Mei Wei and Tak Fat (65 FR 50183), on an expedited basis.

The Department issued supplemental questionnaires to the respondents during June and July 2000. In July and August 2000, the Department received supplemental questionnaire responses from the respondents.

On August 7, 2000, the petitioner requested that the Department rescind the instant review as to CPF claiming that, at this stage of the administrative review, substantial record evidence establishes that CPF had no entries of subject merchandise in the United States during the period of review (POR). On September 19, 2000, CPF argued that rescission is unwarranted because the Department's regulations do not make rescission mandatory under these circumstances and the Department has already spent substantial resources investigating CPF. The Department has not rescinded this review with respect to CPF because the sale by CPF to the United States was made during the POR and the entry information for this sale is part of the record of this review. See “Rescission Request” section below for further discussion.

During the period August 31 through September 6, 2000, we conducted verifications of Raoping, Raoping's producer, Raoping Yucun Canned Foods Factory (Raoping Yucun), and Gerber. We issued verification reports on September 29, 2000, for the Raoping companies, and on October 2, 2000, for Gerber.

The Department is conducting these reviews in accordance with section 751 of the Act.

Rescission Request

Under section 351.213(e) of the Department's regulations, an administrative review normally will cover, as appropriate, sales, exports, or entries of the subject merchandise made during the particular period under review. There is no requirement that both the sale and the entry corresponding to the particular sale both occur within the POR in order to review that sale/entry; however, we must be able to assess antidumping duties on entries, rather than sales, as a result of that review. Under section 351.213(d)(3) of the Department's regulations, the Department may rescind an administrative review, in whole or only with respect to a particular producer or exporter, if it concludes that, during the period covered by the review, there were no entries, exports, or sales of the subject merchandise, as the case may be. See e.g., Certain Preserved Mushrooms from Chile: Final Rescission of Antidumping Duty Administrative Review, 63 FR 43292, 43292-43293 (July 13, 2000), where the Department rescinded the entire review because at least one respondent reported that it did not export the subject merchandise during the POR and U.S. Customs import statistics confirmed that there were no U.S. imports/entries of such merchandise by respondents or any other company during the POR. See Manganese Metal from the People's Republic of China; Preliminary Results and Partial Rescission of Antidumping Administrative Review, 64 FR 10986, 10986-10987 (March 8, 1999) (in which case the Department rescinded a review with respect to two exporters, one of which reported it made one sale during the previous POR which it believed was to be entered into the United States during the POR, but the Department could not establish, for duty assessment purposes, that it in fact was subsequently entered into the United States). In this case, CPF sold and exported the subject merchandise during the POR and placed information on the record indicating that the corresponding entry into the U.S. Customs territory was made shortly after the POR. Therefore, this case is properly distinguished from those cited above, and we do not find that recission of this administrative review with respect to CPF is appropriate in this instance. As stated in the “Assessment Rates” section of this notice, we intend to issue entry-specific liquidation instructions for each respondent (CPF and Raoping) whose sale and entry occurred in different PORs.

Scope of Review

The products covered by this review are certain preserved mushrooms whether imported whole, sliced, diced, or as stems and pieces. The preserved mushrooms covered under this review are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter, or butter sauce. Preserved mushrooms may be imported whole, sliced, diced, or as stems and pieces. Included within the scope of this review are “brined” mushrooms, which are presalted and packed in a heavy salt solution to provisionally preserve them for further processing.

Excluded from the scope of this review are the following: (1) All other species of mushroom, including straw mushrooms; (2) all fresh and chilled mushrooms, including “refrigerated” or “quick blanched mushrooms”; (3) dried mushrooms; (4) frozen mushrooms; and (5) “marinated,” “acidified,” or “pickled” mushrooms, which are prepared or preserved by means of vinegar or acetic acid, but may contain oil or other additives.³

³ On June 19, 2000, the Department affirmed that “marinated,” “acidified,” or “pickled” mushrooms containing less than 0.5 percent acetic acid are within the scope of the antidumping duty order.

The merchandise subject to this review is classifiable under subheadings 2003.1000.27, 2003.1000.31, 2003.1000.37, 2003.1000.43, 2003.1000.47, 2003.1000.53, and 0711.90.4000 of the Harmonized Tariff Schedule of the United States (“HTS”). Although the HTS subheadings are provided for convenience and Customs purposes, our written description of the scope of this review is dispositive.

Separate Rates

In proceedings involving non-market economy (NME) countries, the Department begins with a rebuttable presumption that all companies within the country are subject to government control and thus should be assessed a single antidumping duty deposit rate. In this case, each respondent has requested a separate company-specific rate. Both Gerber and Raoping are either wholly or majority foreign-owned companies; therefore, we determined that no further separate rate analysis is required for these companies. CPF is wholly owned by China National Cereals, Oils, & Foodstuffs Import & Export Corp., which in turn is owned by “all the people.” In the less-than-fair-value (LTFV) investigation we determined that CPF was eligible for a separate rate. As stated in the Final Determination of Sales at Less Than Fair Value: Silicon Carbide from the People's Republic of China, 59 FR 22585 (May 2, 1994) (Silicon Carbide) and in the Final Determination of Sales at Less Than Fair Value: Furfuryl Alcohol from the People's Republic of China, 60 FR 22545 (May 8, 1995) (Furfuryl Alcohol), ownership of the company by “all the people” does not require the application of a single rate. Accordingly, CPF is eligible for consideration of a separate rate.

The Department's separate rate test to determine whether the exporters are independent from government control is not concerned, in general, with macroeconomic/border-type controls, e.g., export licenses, quotas, and minimum export prices, particularly if these controls are imposed to prevent dumping. The test focuses, rather, on controls over the investment, pricing, and output decision-making process at the individual firm level. See e.g., Certain Cut-to-Length Carbon Steel Plate from Ukraine: Final Determination of Sales at Less than Fair Value, 62 FR 61754, 61757 (November 19, 1997); Tapered Roller Bearings and Parts Thereof, Finished and Unfinished, from the People's Republic of China: Final Results of Antidumping Duty Administrative Review, 62 FR 61276, 61279 (November 17, 1997); and Honey from the People's Republic of China: Preliminary Determination of Sales at Less than Fair Value, 60 FR 14725, 14726 (March 20, 1995).

To establish whether a firm is sufficiently independent from government control to be entitled to a separate rate, the Department analyzes each exporting entity under a test arising out of the Final Determination of Sales at Less Than Fair Value: Sparklers from the People's Republic of China, 56 FR 20588 (May 6, 1991) and amplified in Silicon Carbide. Under the separate rates criteria, the Department assigns separate rates in NME cases only if respondents can demonstrate the absence of both de jure and de facto governmental control over export activities.

1. Absence of De Jure Control

The respondents have placed on the record a number of documents to demonstrate absence of de jure control, including the “Foreign Trade Law of the People's Republic of China” and the “Company Law of the People's Republic of China.”

In prior cases, the Department has analyzed these laws and found that they establish an absence of de jure control. See, e.g., Notice of Final Determination of Sales at Less Than Fair Value: Certain Partial-Extension Steel Drawer Slides with Rollers from the People's Republic of China, 60 FR 54472 (October 24, 1995); see also Furfuryl Alcohol. We have no new information in this proceeding which would cause us to reconsider this determination.

Accordingly, we preliminarily determine that, within the preserved mushroom industry, there is an absence of de jure government control over exporting pricing and marketing decisions of firms.

2. Absence of De Facto Control

As stated in previous cases, there is some evidence that certain enactments of the PRC central government have not been implemented uniformly among different sectors and/or jurisdictions in the PRC. See Silicon Carbide and Furfuryl Alcohol. Therefore, the Department has determined that an analysis of de facto control is critical in determining whether respondents are, in fact, subject to a degree of governmental control which would preclude the Department from assigning separate rates.

The Department typically considers four factors in evaluating whether each respondent is subject to de facto governmental control of its export functions: (1) Whether the export prices are set by, or subject to, the approval of a governmental authority; (2) whether the respondent has authority to negotiate and sign contracts and other agreements; (3) whether the respondent has autonomy from the government in making decisions regarding the selection of its management; and (4) whether the respondent retains the proceeds of its export sales and makes independent decisions regarding disposition of profits or financing of losses. See Silicon Carbide and Furfuryl Alcohol.

CPF asserted the following: (1) It establishes its own export prices; (2) it negotiates contracts without guidance from any governmental entities or organizations; (3) it makes its own personnel decisions; and (4) it retains the proceeds of its export sales, uses profits according to its business needs, and has the authority to sell its assets and obtain loans. Additionally, CPF's questionnaire responses indicate that company-specific pricing during the POR does not suggest coordination among exporters. Furthermore, our analysis of CPF's questionnaire responses reveals no other information indicating government control. This information supports a preliminary finding that there is an absence of de facto governmental control of CPF's export functions. Consequently, we preliminarily determine that CPF has met the criteria for the application of a separate rate.

Fair Value Comparisons

To determine whether sales of the subject merchandise by each respondent to the United States were made at LTFV, we compared the export price to the normal value, as described in the “Export Price” and “Normal Value” sections of this notice, below.

Export Price

We used export price methodology in accordance with section 772(a) of the Act, because the subject merchandise was sold directly to unaffiliated customers in the United States prior to importation and constructed export price methodology was not otherwise indicated.

1. CPF, Gerber, and Raoping

We calculated export price based on packed, free on board (FOB) foreign port prices to the first unaffiliated purchaser in the United States. Where appropriate, we made deductions from the starting price (gross unit price) for foreign inland freight and foreign brokerage and handling in the PRC, in accordance with section 772(c) of the Act. Because foreign inland freight and foreign brokerage and handling fees were provided by NME service providers or paid for in a NME currency, we based those charges on surrogate rates from India (see “Surrogate Country” section below). To value foreign inland trucking charges and foreign brokerage and handling expenses, we used November 1999 Indian freight companies' and freight forwarders' price quotes, respectively, obtained by the Department in other antidumping duty proceedings.

The petitioners claim that Raoping's sale is not a bona fide transaction due to the circumstances surrounding the sale which are described in the Department's September 29, 2000, sales verification report. In prior cases the Department has considered factors such as timing, sale price, transportation costs, other expenses borne by the importer, and whether the merchandise was resold by the importer at a loss to determine whether a sale was a bona fide transaction. See Certain Cut-to-Length Carbon Steel Plate from Romania, 63 FR 47232 (September 4, 1998) and American Silicon Technologies v. United States, CIT Slip Op. 00-84 (July 17, 2000).

While we verified that the price for the sale under review is higher than that of certain subsequent sales of the same merchandise to the same customer, there is no evidence on the record to support a conclusion that the price for the reviewed sale is not commercially reasonable or was not a result of arm's-length bargaining, nor is there any record evidence that the importer resold the merchandise at a loss. Furthermore, the transportation costs and other expenses borne by the importer based on the respondent's reported terms of sale are consistent with those incurred by other importers of the subject merchandise in this administrative review and the LTFV investigation. In addition, while the sale occurred shortly before the end of the POR, the timing of the transaction is not a basis in and of itself to render the transaction not bona fide. Therefore, absent evidence to the contrary, we have determined Raoping's sale to be a bona fide transaction for purposes of this review.

Normal Value

A. Non-Market Economy Status

In every case conducted by the Department involving the PRC, the PRC has been treated as a NME country. None of the parties to this proceeding has contested such treatment. Accordingly, we calculated normal value in accordance with section 773(c) of the Act, which applies to NME countries.

B. Surrogate Country

Section 773(c)(4) of the Act requires the Department to value the NME producer's factors of production, to the extent possible, in one or more market economy countries that: (1) are at a level of economic development comparable to that of the NME, and (2) are significant producers of comparable merchandise. The Department has determined that India, Pakistan, Indonesia, Sri Lanka, and the Philippines are countries comparable to the PRC in terms of overall economic development and are significant producers of the subject merchandise (see Memorandum dated April 19, 2000). According to the available information on the record, we have determined that India meets the statutory requirements for an appropriate surrogate country for the PRC. Accordingly, we have calculated NV using Indian values for the PRC producers' factors of production, except, as noted below, in certain instances where an input was sourced from a market economy and paid for in a market economy currency. We have obtained and relied upon PAI wherever possible.

C. Factors of Production

In accordance with section 773(c) of the Act, we calculated NV based on factors of production reported by the companies in the PRC which produced mushrooms for the exporters which sold mushrooms to the United States during the POR. To calculate NV, the reported unit factor quantities were multiplied by publicly available Indian values, where possible.

Where appropriate, we recalculated the reported mushroom consumption factor for purchased brined mushrooms to an amount equivalent to consumption of fresh mushrooms. Specifically, for Gerber, we made this adjustment based on the fresh mushroom consumption used in its own production of brined mushrooms. For Raoping, which only consumed purchased brined mushrooms in its production of the subject merchandise, as facts available, we applied an estimated adjustment factor based on information obtained from the U.S. industry. As in the LTFV investigation, we made these adjustments because we were unable to identify a surrogate value for brined mushrooms (see below).

We made the following additional adjustments to the reported factors of production:

China Processed

1. We adjusted all factors of production reported by China Processed's supplier, Yu Xing Fruit and Vegetable Development Co., Ltd. (Yu Xing), to reflect a drained-weight basis, using data in China Processed's questionnaire responses.

2. We recalculated Yu Xing's reported tin plate consumption (used to make cans) by dividing total reported POR tin plate consumption by the POR preserved mushrooms production amount. We made this adjustment in order to reflect a drained-weight mushroom basis, and to insure that all tin plate consumed, including waste, was accounted for.

Gerber

1. We incorporated Gerber's pre-verification revisions and our verification findings.

2. We added an additional amount of electricity consumption to account for production-related electricity not included in Gerber's factor reporting, based on our verification findings. See Memorandum entitled Gerber Preliminary Results Margin Calculation, dated October 31, 2000.

Raoping reported that it purchased cans from a market-economy supplier (i.e., a Hong Kong trading company) and paid for them in U.S. dollars. The petitioners point out that Raoping did not demonstrate that the cans were actually manufactured in a market economy. However, Raoping did show that the material was obtained from a market-economy supplier and that it paid for the material in a market-economy currency. Further, we found no evidence at verification to indicate that the cans were not actually produced in a market economy. Accordingly, we have valued Raoping's consumption of cans and lids based on the U.S. dollar prices it paid for them to the Hong Kong supplier. As appropriate, for these imported materials, we calculated PRC brokerage and inland freight from the port to the factory using surrogate rates from India. We valued the remaining factors using PAI from India, except where noted below. Where a producer did not report the distance between the material supplier and the factory, as facts available, we used either the distance to the nearest seaport (if an import value was used as the surrogate value for the factor) or the farthest distance reported for a supplier of any agricultural or chemical input, as appropriate.

The selection of the surrogate values applied in this determination was based on the quality, specificity, and contemporaneity of the data. Wherever possible and appropriate, we used non-producer specific prices in accordance with the preamble to the Department's regulations at 62 FR 27296, 27366 (May 19, 1997). As appropriate, we adjusted input prices to reflect delivered values. For those values not contemporaneous with the POR and quoted in a foreign currency, we adjusted for inflation using wholesale price indices published in the International Monetary Fund's International Financial Statistics. A complete analysis of the surrogate values may be found in the Preliminary Determination Valuation Memorandum from the Team to the File (Preliminary Determination Valuation Memorandum), dated October 31, 2000.

We valued the major material inputs used in the production of the subject merchandise using the following sources. For fresh and brined mushrooms, we used the simple average of the fresh mushrooms prices quoted in the Indian publication The Economic Times during the POR. We valued cans for Gerber using the weighted-average per-piece value derived from the notes to the Indian producer Agro Dutch Industries, Ltd.”s 1998-1999 and 1999-2000 financial statements. We valued tin plate for CPF using the Commodity Trade Statistics published by the United Nations Statistics Division (United Nations Statistics).

For other raw materials and packing materials, such as growing inputs, chemicals, and cardboard cartons, we derived unit values from Indian preserved mushroom producers' financial statements, the Monthly Trade Statistics of Foreign Trade of India, Volume II—Imports (Indian Import Statistics), or the Indian publication Chemical Weekly.

We valued calcium super phosphate and calcium phosphate using the U.S. price quoted in the U.S. publication Chemical Marketing Reporter because it was the only information on the record for these inputs.

For certain materials reportedly consumed in small quantities, such as cotton wadding, HCHO, and single super phosphate, we were unable to identify appropriate surrogate values. Therefore, we have not included these factors in our preliminary results normal value calculation.

Raoping claimed that it resold scrap can material but failed to provide documentation at verification to demonstrate that the scrap material was actually resold. Therefore, we have not made an offset deduction to the surrogate cost of production for can scrap because Raoping has not met the burden under 19 CFR 351.401(b) to demonstrate its entitlement to the offset.

We valued labor based on a regression-based wage rate in accordance with 19 CFR 351.408(c)(3).

To value electricity, we used the average rupees/kilowatt hour derived from four Indian preserved-mushroom producing companies' annual reports for April 1998 through March 1999. In certain recent cases (e.g., Notice of Final Results of Antidumping Duty Administrative Review of Manganese Metal from the People's Republic of China, 65 FR 30067, 30067-8 (May 10, 2000)), the Department has used publicly available information based on an aggregate of Indian state and regional electricity rates in order to fulfill the regulatory preference for valuing electricity. In the instant review, we preliminarily determined it appropriate to use an alternative methodology based on the contemporaneity and specificity of the data employed as well as other factors. See Preliminary Determination Valuation Memorandum for further discussion. We based the value of coal on the average of the rupees/metric ton rate of “Coal (for steam raising)” from Polychem, Ltd.”s annual report for April 1998 through March 1999 and the United Nations Statistics. We did not value water separately because it appeared to be included in factory overhead.

We based our calculation of factory overhead (including water), SG&A expenses, and profit on the simple average of the corresponding data of three Indian preserved mushroom producers whose production and sales activity is mostly preserved mushrooms and other food products who were profitable during the POR.

To value truck freight rates, we used November 1999 Indian freight companies' price quotes discussed in the “Export Price” section above. With regard to rail freight, we based our calculation on information from the Indian Railway Conference Association.

The United States Court of Appeals for the Federal Circuit's (CAFC's) decision in Sigma Corp. v. United States, 117 F. 3d 1401 (CAFC 1997) requires that we revise our calculation of source-to-factory surrogate freight for those material inputs that are based on CIF import values in the surrogate country. Therefore, we have added to CIF surrogate values from India a surrogate freight cost using the shorter of the reported distances from either the closest PRC port to the factory or from the domestic supplier to the factory on an import-specific basis.

Preliminary Results of the Review

As a result of this review, we preliminarily determine that the weighted-average dumping margins for the August 5, 1998, through January 31, 2000 POR are as follows:

Manufacturer/producer/exporter | Margin percent
Gerber Food (Yunnan) Co., Ltd. | 99.69
China Processed Food Import & Export Co. | 0.00
Raoping Xingyu Foods Co., Ltd. | 42.77

We will disclose the calculations used in our analysis to parties to this proceeding within five days of the publication date of this notice. See 19 CFR 351.224(b). Any interested party may request a hearing within 30 days of publication. See 19 CFR 351.310(c). If requested, a hearing will be held 44 days after the publication of this notice, or the first workday thereafter.

Issues raised in the hearing will be limited to those raised in the respective case briefs and rebuttal briefs. See 19 CFR 351.310(c). Case briefs from interested parties and rebuttal briefs, limited to the issues raised in the respective case briefs, may be submitted not later than 30 days and 35 days, respectively, from the date of publication of these preliminary results. See 19 CFR 351.309(c) and (d). Parties who submit case briefs or rebuttal briefs in this proceeding are requested to submit with each argument (1) a statement of the issue and (2) a brief summary of the argument. Parties are also encouraged to provide a summary of the arguments not to exceed five pages and a table of statutes, regulations, and cases cited.

The Department will issue the final results of these administrative reviews, including the results of its analysis of issues raised in any written briefs or at the hearing, if held, not later than 120 days after the date of publication of this notice.

Interested parties who wish to request a hearing, or to participate if one is requested, must submit a written request to the Assistant Secretary for Import Administration, Room B-099, within 30 days of the date of publication of this notice. Requests should contain: (1) The party's name, address, and telephone number; (2) the number of participants; and (3) a list of issues to be discussed.

In accordance with 19 CFR 351.301(c)(3)(ii), interested parties may submit additional publicly available information to value the factors of production for the final results of these reviews until 20 days after publication of these results, unless a written request for an extension is received and granted.

Assessment Rates

Upon completion of this administrative review, the Department shall determine, and the Customs Service shall assess, antidumping duties on all appropriate entries. The Department will issue appropriate appraisement instructions directly to the Customs Service upon completion of these reviews. The final results of these reviews shall be the basis for the assessment of antidumping duties on entries of merchandise covered by the final results of these reviews and for future deposits of estimated duties. Pursuant to 19 CFR 351.106(c)(2), we will instruct the Customs Service to liquidate without regard to antidumping duties all entries for any importer for whom the assessment rate is de minimis (i.e., less than 0.50 percent). For assessment purposes, we intend to calculate entry-specific ad valorem duty assessment rates (for CPF and Raoping whose sale and entry occurred in different PORs) or importer-specific ad valorem duty assessment rates (for Gerber) based on the ratio of the total amount of the dumping margins calculated for the examined sales to the total entered value of those same sales.

This notice also serves as a preliminary reminder to importers of their responsibility under 19 CFR 351.402(f)(2) to file a certificate regarding the reimbursement of antidumping duties prior to liquidation of the relevant entries during these review periods. Failure to comply with this requirement could result in the Secretary's presumption that reimbursement of antidumping duties occurred and the subsequent assessment of double antidumping duties.

Cash Deposit Requirements

The following cash deposit requirements will be effective for all shipments of the subject merchandise entered, or withdrawn from warehouse, for consumption on or after the publication date of the final results of these administrative and new shipper reviews, as provided by section 751(a)(1) of the Act: (1) The cash deposit rate for each reviewed company will be that established in the final results of these reviews, except if the rate is less than 0.50 percent, and therefore, de minimis within the meaning of 19 CFR 351.106(c)(1), in which case the cash deposit rate will be zero; (2) for previously reviewed or investigated companies not listed above that have separate rates, the cash deposit rate will continue to be the company-specific rate published for the most recent period; (3) the cash deposit rate for all other PRC manufacturers or exporters will continue to be 198.63 percent, the “PRC-Wide” rate made effective by the LTFV investigation; and (4) for all non-PRC exporters, the cash deposit rate will continue to be 198.63 percent, the “PRC-Wide” rate made effective by the LTFV investigation. These requirements, when imposed, shall remain in effect until publication of the final results of the next administrative review.

These administrative and new shipper reviews and notice are published in accordance with sections 751(a)(1) and 777(i)(1) of the Act.

Dated: October 31, 2000.
Troy H. Cribb,
Assistant Secretary for Import Administration.

[FR Doc. 00-28568 Filed 11-6-00; 8:45 am]

BILLING CODE 3510-DS-P